DEPARTMENT OF COMMERCE

National Oceanic and Atmospheric Administration

[RTID 0648-XF045]

Magnuson-Stevens Act Provisions; General Provisions for Domestic Fisheries; Coastal Pelagic Species Fishery; Application for Exempted Fishing Permits; 2025-2026 Fishing Year

AGENCY: National Marine Fisheries Service (NMFS), National Oceanic and Atmospheric Administration (NOAA), Commerce.

ACTION: Notice of receipt of application; request for comments.

SUMMARY: The Regional Administrator, West Coast Region, NMFS, has made a preliminary determination that an exempted fishing permit (EFP) application warrants further consideration. This application, from the California Wetfish Producers Association (CWPA), requests an exemption from the expected prohibition on primary directed fishing for Pacific sardine during the 2025-2026 fishing year as part of industry-based scientific research. NMFS requests public comment on this application.

DATES: Comments must be received by August 8, 2025.

ADDRESSES: You may submit comments on this document, identified by NOAA-NMFS-2025-0306, by the following method:

• Electronic Submissions: Submit all public comments via the Federal e-Rulemaking Portal. Visit https://www.regulations.gov and type NOAA-NMFS-2025-0306 in the Search box. Click the “Comment” icon, complete the required fields, and enter or attach your comments. The EFP applications will be available under Supporting and Related Materials through the same link.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Laura Gray, West Coast Region, NMFS, (301) 427-8490, laura.gray@noaa.gov.

SUPPLEMENTARY INFORMATION: Approving this EFP application would be authorized under the Coastal Pelagic Species (CPS) Fishery Management Plan (FMP) and regulations at 50 CFR 600.745, which allow NMFS Regional Administrators to authorize EFPs for fishing activities that would otherwise be prohibited.

At its April 2025 meeting, the Pacific Fishery Management Council (Council) recommended that NMFS approve an EFP application for the 2025-2026 Pacific sardine fishing year. This application from the CWPA is a request for an exemption from the expected prohibition on primary directed fishing for Pacific sardine during the 2025-2026 fishing year; the purpose of the permit is to collect Pacific sardine as part of industry-based scientific research and maintain a continuous time series of fishery-dependent data. This EFP would extend the work previously authorized by NMFS across 6 consecutive fishing years.

The Council considered this EFP application concurrently with the 2025-2026 annual harvest specifications for Pacific sardine because Pacific sardine catch under the EFP would be accounted for under the proposed annual catch limit, which is 2,200 metric tons (mt). This EFP requests an allowance of up to 520 mt of Pacific sardine to be harvested during the 2025-2026 fishing year. The primary directed fishery for Pacific sardine has been closed since 2015 and, consequently, scientists at the Southwest Fisheries Science Center (SWFSC) have a limited amount of fishery-dependent data to use in their stock assessment. The goal of this EFP project is to continue a time series of fishery-dependent biological data (e.g., age and growth data), for potential use in Pacific sardine stock assessments. If approved, this EFP would allow up to eight participating vessels to directly harvest up to 520 mt of Pacific sardine during the 2025-2026 fishing year using methods developed in coordination with SWFSC, and consistent with approvals granted since 2020. Harvests under this EFP would occur monthly in nearshore waters of both southern California and the central California coast. A portion of each landing would be retained for biological sampling by the California Department of Fish and Wildlife, and the remainder would be sold by participating fishermen and processors to offset research costs and avoid unnecessary discard.

If NMFS does not issue this EFP, the requested tonnage of 520 mt would be available for harvest by other permissible fishing activities during the 2025-2026 fishing year (e.g., live bait or minor directed harvest).

NMFS may approve and issue permits to participating vessels after publication of this notice in the Federal Register and the close of the public comment period. NMFS will consider comments submitted in deciding whether to approve the application as requested. NMFS may approve the application in its entirety or may make any alterations needed to achieve the goals of the EFP project and the CPS FMP. NMFS may also approve different amounts of Pacific sardine for the EFP project if any changes are made to the 2025-2026 proposed sardine harvest specifications before final implementation.

(Authority: 16 U.S.C. 1801 et seq.)

Dated: July 21, 2025.
Kelly Denit,
Director, Office of Sustainable Fisheries, National Marine Fisheries Service.

[FR Doc. 2025-13915 Filed 7-23-25; 8:45 am]

BILLING CODE 3510-22-P